DEPARTMENT OF THE INTERIOR

Bureau of Ocean Energy Management

[Docket No. BOEM-2012-0068]

Notice of Determination of No Competitive Interest

AGENCY: Bureau of Ocean Energy Management (BOEM), Interior.

ACTION: Notice of Determination of No Competitive Interest for Proposed Right-of-Way Grant Area

SUMMARY: This notice provides BOEM's determination of no competitive interest (DNCI) for the area requested by the Deepwater Wind Block Island Transmission System, LLC, application for a Right-of-Way (ROW) grant for renewable energy purposes on the Outer Continental Shelf (OCS) off the coast of Rhode Island as described in the May 23, 2012, Notice of Proposed Grant Area and Request for Competitive Interest (RFCI) in the Area of the Deepwater Wind Block Island Transmission System (BITS) Proposal (77 FR 30551).

DATES: Effective August 7, 2012.

FOR FURTHER INFORMATION CONTACT: Ms. Jessica Bradley, Project Coordinator, BOEM, Office of Renewable Energy Programs, 381 Elden Street, HM 1328, Herndon, Virginia 20170. (703) 787-1320.

SUPPLEMENTARY INFORMATION:

Authority

This DNCI is published pursuant to subsection 8(p)(3) of the OCS Lands Act, which was added by section 388 of the Energy Policy Act of 2005 (EPAct) (43 U.S.C. 1337(p)(3)), and the implementing regulations at 30 CFR Part 585. Subsection 8(p)(3) of the OCS Lands Act requires that OCS renewable energy leases, easements, and ROWs be issued “on a competitive basis unless the Secretary determines after public notice of a proposed lease, easement, or ROW that there is no competitive interest.” The authority to make such determinations has been delegated to BOEM.

Determination and Next Steps

This DNCI provides notice to the public that BOEM has determined there is no competitive interest in the proposed ROW grant area, as no indications of competitive interest were submitted in response to the RFCI.

In the RFCI, BOEM also solicited public comment on site conditions and multiple uses within the ROW grant area that would be relevant to the proposed project or its impacts. BOEM received public comment submissions from two (2) parties in response. The comments received in response to the RFCI will be used to inform BOEM in subsequent agency decisions. After the publication of this DNCI, BOEM will proceed with the noncompetitive ROW grant process outlined at 30 CFR 585.306(b).

Environmental Review Process

The U.S. Army Corps of Engineers (USACE) New England District and BOEM both have jurisdiction by law for portions of the BITS. The BITS would support Deepwater Wind's proposed Block Island Wind Farm (BIWF), a proposed 30-megawatt offshore wind energy project located in Rhode Island State waters approximately 2.5 nautical miles southeast of Block Island. Since the majority of the activities and permanent structures related to the BIWF and the BITS will be sited in state waters and on state lands, the USACE will be the lead agency for the National Environmental Policy Act (NEPA) environmental analysis of both projects. The portion of the BITS that would be located on the OCS requires a ROW grant from BOEM, and BOEM will be a cooperating agency in the NEPA process led by the USACE. BOEM will consider all relevant information produced from the NEPA process and, if appropriate, adopt the USACE's NEPA document prior to the issuance of any ROW grant.

BOEM and the USACE intend to conduct consultations required by Federal law or executive order jointly during the NEPA process. These consultations include, but are not limited to, those required by the Endangered Species Act, the Magnuson-Stevens Fishery Conservation and Management Act, the National Historic Preservation Act, and Executive Order 13175—“Consultation and Coordination with Tribal Governments.”

Map of the Area

A map of the area proposed for a ROW grant can be found at the following URL: http://www.boem.gov/Renewable-Energy-Program/State-Activities/Rhode-Island.aspx.

Dated: July 27, 2012.
Tommy P. Beaudreau,
Director, Bureau of Ocean Energy Management.

[FR Doc. 2012-19256 Filed 8-6-12; 8:45 am]

BILLING CODE 4310-VH-P